DEPARTMENT OF ENERGY

Office of Energy Efficiency and Renewable Energy

[Docket No. EERE-2014-BT-NOA-0016]

Physical Characterization of Smart and Grid-Connected Commercial and Residential Buildings End-Use Equipment and Appliances

AGENCY: Office of Energy Efficiency and Renewable Energy, Department of Energy.

ACTION: Notice of public meeting and request for comment.

SUMMARY: The U.S. Department of Energy (DOE) is soliciting comment and data from the public on a variety of issues related to the physical characterization of smart and grid-connected commercial and residential buildings end-use equipment and appliances. To inform interested parties and to facilitate this data-gathering process, DOE will hold a public meeting for stakeholders to discuss issues concerning the physical characterization of grid-connected commercial and residential buildings end-use equipment and appliances, including but not limited to processes and metrics for measurement, identification of grid and building services that can be provided, and identification of values and benefits of grid connectivity. The public meeting will also allow DOE to gather input on topics related to grid-connected equipment, allow stakeholder groups to engage, and provide an opportunity to allow interested parties to provide published work and studies related to these issues. DOE also welcomes written comments from the public on any subject relevant to this proceeding (including topics not raised in this notice).

DATES: Meeting: DOE will hold a public meeting on April 30, 2014, from 8:30 a.m. to 4:30 p.m., Mountain Standard Time, in Golden, Colorado.

Comments: DOE will accept written comments, data, and information regarding the physical characterization of smart and grid-connected commercial and residential buildings end-use equipment and appliances before and after the public meeting, but no later than Friday, May 23, 2014 at 5:00 p.m., Eastern Standard Time.

ADDRESSES: Unless otherwise specified in a subsequent Federal Register notice and official email, the public meeting will be held in the San Juan Room Conference Room of the Research Support Facility, on the South Table Mountain Campus of the Department of Energy's National Renewable Energy Laboratory (NREL), 15013 Denver West Parkway, Golden, CO 80401. For information on visiting NREL, see the following Web site: http://www.nrel.gov/about/golden.html. Please note admittance instructions in section II., Public Participation, under the SUPPLEMENTARY INFORMATION section of this notice.

Interested parties are encouraged to submit comments electronically. However, comments may be submitted by any of the following methods:

• Email: ConnectedBuildings2014NOA0016@ee.doe.gov. Include docket number EERE-2014-BT-NOA-0016 in the subject line of the message. All comments should clearly identify the name, address, and, if appropriate, organization of the commenter. Submit electronic comments in WordPerfect, Microsoft Word, PDF, or ASCII file format, and avoid the use of special characters or any form of encryption.

• Postal Mail: Mr. Joseph Hagerman, U.S. Department of Energy, Building Technologies Office, Mailstop EE-5B, EERE-2014-BT-NOA-0016, 1000 Independence Avenue SW., Washington, DC 20585-0121. If possible, please submit all items on a compact disc (CD), in which case it is not necessary to include printed copies. (Please note that comments sent by mail are often delayed and may be damaged by mail screening processes.)

• Hand Delivery/Courier: Mr. Joseph Hagerman, U.S. Department of Energy, Building Technologies Program, Sixth Floor, 950 L'Enfant Plaza SW., Washington, DC 20024. Telephone: (202) 586-2945. If possible, please submit all items on a CD, in which case it is not necessary to include printed copies.

Instructions: All submissions received must include the agency name and docket number for this public meeting. No telefacsimilies (faxes) will be accepted.

For information on how to submit a comment, review other public comments and the docket, or participate in the public meeting, contact Brenda Edwards at (202) 586-2945 or by email: brenda.edwards@ee.doe.gov.

FOR FURTHER INFORMATION CONTACT: Mr. Joseph Hagerman, U.S. Department of Energy, Office of Building Technologies (EE-5B), 950 L'Enfant Plaza SW., Washington, DC 20024. Phone: (202) 586-4549. Email: joseph.hagerman@ee.doe.gov.

SUPPLEMENTARY INFORMATION:

I. Issues on Which DOE Seeks Comment

In order to gather information on the physical characterization of smart and grid-connected commercial and residential buildings equipment and appliances, DOE is holding a public meeting on April 30, 2014 at DOE's NREL South Table Mountain Campus in Golden, Colorado. The agenda is expected to include the following discussion items:

• Examples of physical characterization of smart and grid-connected buildings equipment;

• Potential national value and benefits, and stakeholder value propositions, of smart and grid-connected buildings equipment;

• Candidate metrics to characterize smart and grid-connected buildings equipment;

• Potential frameworks for the characterization process;

• Other topics related to smart and grid-connected equipment that DOE should consider;

• Public input on key stakeholders DOE should engage; and

• Public input to identify reports, analyses, and case studies of which DOE should be aware.

Grid connected water heaters are subject to an ongoing rulemaking proceeding and will not be discussed at the meeting.

Note that agenda items may change without notice. The final agenda will be posted on the DOE Web site at: http://energy.gov/eere/buildings/buildings-grid-integration.

DOE considers public participation very important in gathering information. Interactions with and among members of the public provide a balanced discussion of the issues and assist DOE in making objective determinations. DOE requests comment on the physical characterization of smart and grid-connected commercial and residential buildings equipment and appliances at the public meeting, or submitted in writing before or after the meeting, but no later than May 23, 2014. See the following section II for additional information on public participation.

II. Public Participation

At the meeting, approximately 150 seats will be available for the public. Pre-registration is required to attend the meeting. Visitors to the NREL site are required to pre-register to be admitted. Registration will be offered on a first come, first served basis; all participants must register by 5:00 p.m. Mountain Standard Time, April 25, 2014.

To register over the phone or through email, contact Marcia Fratello at (303) 384-7440 or marcia.fratello@nrel.gov, and provide your name, email address, and phone number. Foreign nationals must also obtain a foreign national data card from Ms. Fratello by 5:00 p.m. Mountain Standard Time, April 16, 2014.

Participation in the meeting is not a prerequisite for submission of written comments. DOE invites all interested parties to submit in writing by May 23, 2014, comments and information on matters addressed in this notice and on other matters relevant to DOE's consideration of the physical characterization of smart and grid-connected commercial and residential buildings equipment and appliances. Interested parties may submit comments, data, and other information using any of the methods described in the ADDRESSES section at the beginning of this notice.

Issued in Washington, DC, on April 2, 1014.
Kathleen Hogan,
Deputy Assistant Secretary for Energy Efficiency, Energy Efficiency and Renewable Energy.

[FR Doc. 2014-07864 Filed 4-7-14; 8:45 am]

BILLING CODE6450-01-P